DEPARTMENT OF ENERGY

Federal Energy Regulatory Commission

Sunshine Act Meetings

The following notice of meeting is published pursuant to section 3(a) of the government in the Sunshine Act (Pub. L. 94-409), 5 U.S.C. 552b:

Agency Holding Meeting: Federal Energy Regulatory Commission.

TIME AND DATE: January 22, 2026, 10:00 a.m.

PLACE: Room 2C, 888 First Street NE, Washington, DC 20426.

STATUS: Open to the public.

MATTERS TO BE CONSIDERED: Agenda.

* Note—Items listed on the agenda may be deleted without further notice.

This is a list of matters to be considered by the Commission. It does not include a listing of all documents relevant to the items on the agenda. All public documents, however, may be viewed online at the Commission's website at https://elibrary.ferc.gov/eLibrary/search using the eLibrary link.

1132nd—Meeting
[Open; January 22, 2026; 10:00 a.m.]
Item No. | Docket No. | Company
Administrative
A-1 | AD26-1-000 | Agency Administrative Matters.
A-2 | AD26-2-000 | Customer Matters, Reliability, Security and Market Operations.
Electric
E-1 | ER25-2454-002 | Midcontinent Independent System Operator, Inc.
E-2 | ER25-2296-002 | Southwest Power Pool, Inc.
E-3 | ER21-59-004 | Brookfield Renewable Trading and Marketing LP.
E-4 | ER26-498-000 | EDF Power Solutions, Inc.
E-5 | ER26-535-000 | Greenswitch Wind, LLC.
E-6 | ER21-58-002 | TransAlta Energy Marketing (U.S.), Inc. and TransAlta Energy Marketing (California), Inc.
E-7 | EL25-106-000 | New England Power Generators Association v. ISO New England Inc.
E-8 | ER24-2045-003 | PJM Interconnection, L.L.C.
E-9 | ER24-2026-001, ER24-2026-002 | Southwest Power Pool, Inc.
Hydro
H-1 | P-14861-002 | FFP Project 101, LLC.
H-2 | P-3571-041 | Central Oregon Irrigation District.
H-3 | P-2660-038 | Woodland Pulp LLC.
H-4 | P-2333-094 | Rumford Falls Hydro LLC.
H-5 | P-4639-035 | Ampersand Christine Falls Hydro, LLC.
Certificates
C-1 | CP23-516-003 | East Tennessee Natural Gas, LLC.
C-2 | CP25-79-000 | ANR Pipeline Company.
C-3 | CP25-204-000 | Northwest Pipeline LLC.

CONTACT PERSON FOR MORE INFORMATION: Debbie-Anne A. Reese, Secretary. Telephone (202) 502-8400. For a recorded message listing items Stricken from or added to the meeting, call (202) 502-8627.

A free webcast of this event is available through the Commission's website. Anyone with internet access who desires to view this event can do so by navigating to www.ferc.gov' s Calendar of Events and locating this event in the Calendar. The Federal Energy Regulatory Commission provides technical support for the free webcasts. Please call (202) 502-8680 or email customer@ferc.gov if you have any questions.

Immediately following the conclusion of the Commission Meeting, a press briefing will be held in the Commission Meeting Room. Members of the public may view this briefing in the designated overflow room. This statement is intended to notify the public that the press briefings that follow Commission meetings may now be viewed remotely at Commission headquarters but will not be telecast.

Issued: January 15, 2026.
Debbie-Anne A. Reese,
Secretary.

[FR Doc. 2026-01192 Filed 1-20-26; 4:15 pm]

BILLING CODE 6717-01-P